DEPARTMENT OF STATE

[Public Notice 5351]

60-Day Notice of Proposed Information Collection: Forms DS-1998 and DS-1998E, Foreign Service Written Examination Registration Form, OMB Control Number 1405-0008

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Registration for the Foreign Service Officer Written Examination.

• OMB Control Number: 1405-0008.

• Type of Request: Revision of a Currently Approved Collection.

• Originating Office: Human Resources, HR/REE/BEX.

• Form Number: DS-1998 & DS-1998-E.

• Respondents: Registrants for the Foreign Service Written Examination.

• Estimated Number of Respondents: 35,147.

• Estimated Number of Responses: 35,147.

• Average Hours Per Response: 20 minutes.

• Total Estimated Burden: 11,716 hours.

• Frequency: Annually.

• Obligation to Respond: Required to obtain or retain a benefit.

DATES: The Department will accept comments from the public up to 60 days from March 24, 2006.

ADDRESSES: You may submit comments by any of the following methods:

• E-mail: deanmm@state.gov.

• Mail (paper, disk, or CD-ROM submissions): Margaret Dean, HR/REE/BEX, SA-1, 2401 E Street, NW., H-518, Washington, DC 20522.

• Fax: (202) 261-8843, Att: Margaret Dean.

You must include the DS form number (if applicable), information collection title, and OMB control number in any correspondence.

FOR FURTHER INFORMATION CONTACT: Direct requests for additional information regarding the collection listed in this notice, including requests for copies of the proposed information collection and supporting documents, to Margaret Dean, HR/REE/BEX, SA-1, 2401 E Street, NW., H-518, Washington, DC 20522, who may be reached on (202) 261-8898 or at deanmm@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Individuals registering for the Foreign Service Written Examination will provide information about their name, age, Social Security Number, contact information, ethnicity, and very brief information on their education and work history. The information will be used to prepare and issue admission to the examination, to help improve future examinations, and to conduct research studies based on the examination results.

Methodology: Responses can be submitted via the online registration option or by mail.

Dated: February 28, 2006.
Ruben Torres,
Executive Director, Bureau of Human Resources, Department of State.

[FR Doc. E6-4315 Filed 3-23-06; 8:45 am]

BILLING CODE 4710-15-P